DEPARTMENT OF COMMERCE

International Trade Administration

[A-428-849]

Common Alloy Aluminum Sheet From Germany: Preliminary Results of Antidumping Duty Administrative Review; 2020-2022

AGENCY: Enforcement and Compliance, International Trade Administration, Department of Commerce.

SUMMARY: The U.S. Department of Commerce (Commerce) preliminarily determines that the producers/exporters subject to this administrative review made sales of subject merchandise at less than normal value (NV) during the period of review (POR) (October 15, 2020, through March 31, 2022). Interested parties are invited to comment on these preliminary results of the review.

DATES: Applicable May 10, 2023.

FOR FURTHER INFORMATION CONTACT: Drew Jackson or Jonathan Hill, AD/CVD Operations, Office IV, Enforcement and Compliance, International Trade Administration, U.S. Department of Commerce, 1401 Constitution Avenue NW, Washington, DC 20230; telephone: (202) 482-4406 or (202) 482-3518, respectively.

SUPPLEMENTARY INFORMATION:

Background

On July 14, 2022, Commerce initiated an administrative review of the antidumping duty order ¹ on common alloy aluminum sheet from Germany covering the above-referenced POR.² For a complete description of the events that followed the initiation of this review, see the accompanying Preliminary Decision Memorandum.³ On December 15, 2022, Commerce extended the deadline for issuing the preliminary results of this review from January 3, 2023, to April 28, 2023.⁴

¹ See Common Alloy Aluminum Sheet from Bahrain, Brazil, Croatia, Egypt, Germany, India, Indonesia, Italy, Oman, Romania, Serbia, Slovenia, South Africa, Spain, Taiwan, and the Republic of Turkey: Antidumping Duty Orders, 86 FR 22139 (April 27, 2021) (Order).

² See Initiation of Antidumping and Countervailing Duty Administrative Reviews, 87 FR 42144 (July 14, 2022) (Initiation Notice).

³ See Memorandum, “Decision Memorandum for Preliminary Results of the 2020-2022 Administrative Review of the Antidumping Duty Order on Common Alloy Aluminum Sheet from Germany,” dated concurrently with, and hereby adopted by, this notice (Preliminary Decision Memorandum).

⁴ See Memorandum, “Extension of Deadline for the Preliminary Results of the 2020-2022 Antidumping Duty Administrative Review,” dated December 15, 2022.

Scope of the Order

The products covered by this Order are common alloy aluminum sheet, which is a flat-rolled aluminum product having a thickness of 6.3 mm or less, but greater than 0.2 mm, in coils or cut-to-length, regardless of width. Common alloy sheet within the scope of this Order includes both not clad aluminum sheet, as well as multi-alloy, clad aluminum sheet. For a full description of the scope of the Order, see Preliminary Decision Memorandum.

Preliminary Results of Successor-in-Interest Analysis

Commerce initiated this administrative review with respect to four companies, including Hydro Aluminium Rolled Products GmbH (HARP) and Speira GmbH (Speira).⁵ Speira reported that during the POR, “HARP assumed new ownership and took on the name of Speira GmbH.” ⁶ We have analyzed record information regarding changes in HARP's management, manufacturing facilities, customers, and suppliers, and preliminarily determine that Speira is the successor-in-interest to HARP. Accordingly, we have treated HARP and Speira as the same company in our analyses in this review. See the Preliminary Decision Memorandum for further information. Should our preliminary successor-in-interest determination remain unchanged in the final results of review, we will instruct CBP to apply the assessment rates that we calculated for Speira to POR entries of subject merchandise from both Speira and HARP.

⁵ See Initiation Notice.

⁶ See Preliminary Decision Memorandum (citing Speira's Letter, “Section A Response,” dated September 30, 2022, at 1).

Methodology

Commerce is conducting this review in accordance with section 751(a)(1)(B) of the Tariff Act of 1930, as amended (the Act). We calculated export and constructed export prices and NV for the two mandatory respondents, Novelis Deutschland GmbH (Novelis) and Speira (formerly known HARP), in accordance with sections 772 and 773 of the Act, respectively.

For a full description of the methodology underlying our decisions, see the Preliminary Decision Memorandum. A list of the sections in the Preliminary Decision Memorandum is attached as an appendix to this notice. The Preliminary Decision Memorandum is a public document and is on file electronically via Enforcement and Compliance's Antidumping and Countervailing Duty Centralized Electronic Service System (ACCESS). ACCESS is available to registered users at http://access.trade.gov. In addition, the Preliminary Decision Memorandum may be accessed directly at https://access.trade.gov/public/FRNoticesListLayout.aspx.

Margin for the Non-Individually Examined Company

The Act and Commerce's regulations do not address what weighted-average dumping margin to apply to companies not selected for individual examination when Commerce limits its examination in an administrative review pursuant to section 777A(c)(2) of the Act. Generally, when calculating weighted-average dumping margins for non-selected respondents, Commerce looks to section 735(c)(5) of the Act for guidance, which provides instructions for calculating the all-others rate in an investigation.

Section 735(c)(5)(A) of the Act provides that Commerce will base the all-others rate in an investigation on the weighted average of the estimated weighted-average dumping margins calculated for the individually examined respondents, excluding rates that are zero, de minimis, or based entirely on facts available. Where the weighted-average dumping margin for each of the individually examined companies is zero, de minimis, or based entirely on facts available, section 735(c)(5)(B) of the Act provides that Commerce may use “any reasonable method to establish the estimated all-others rate for exporters and producers not individually investigated, including averaging the estimated weighted-average dumping margins determined for the exporters and producers individually investigated.”

Because Commerce preliminarily calculated weighted-average dumping margins for Novelis and Speira that are not zero, de minimis, or based entirely on facts available, we have preliminarily assigned Constellium Rolled Products Singen GmbH & Co. KG., the sole company under review that was not selected for individual examination, a weighted-average dumping margin equal to the weighted average of the estimated weighted-average dumping margins calculated for Novelis and HARP/Speira, weighted by the mandatory respondents' publicly ranged total sales values, consistent with the guidance in section 735(c)(5)(A) of the Act.⁷ For additional information, see the Preliminary Decision Memorandum.

⁷ See Memorandum, “Administrative Review of the Antidumping Duty Order on Common Alloy Aluminum Sheet from Germany: Calculation of the Weighted-Average Dumping Margin for the Company Not Selected for Individual Examination,” dated concurrently with this notice.

Preliminary Results of Review

We are assigning the following weighted-average dumping margins to the companies listed below for the period October 15, 2020, through March 31, 2022:

Producer or exporter | Weighted-average dumping margin (percent)
Novelis Deutschland GmbH | 17.80
Hydro Aluminium Rolled Products GmbH/Speira GmbH | 18.70
Review-Specific Rate Applicable to the Following Non-Examined Company:
Constellium Rolled Products Singen GmbH & Co. KG | 18.10

Disclosure

Commerce intends to disclose the calculations that it performed for these preliminary results of review under Administrative Protective Order to parties to the proceeding within five days of the date of publication of this notice in the Federal Register in accordance with 19 CFR 351.224(b).

Public Comment

Interested parties may comment on the preliminary results of this review by submitting case briefs to Commerce no later than 30 days after the date of publication of these preliminary results of review in the Federal Register.⁸ Interested parties may also file rebuttal briefs with Commerce no later than seven days after case briefs are due. Interested parties should only respond to arguments raised in case briefs in their rebuttal briefs.⁹ Parties who submit case or rebuttal briefs are requested to submit with each brief a table of contents, a summary of the arguments, not to exceed five pages, and a table of authorities.¹⁰

⁸ See 19 CFR 351.309(c)(1)(ii).

⁹ See 19 CFR 351.309(d).

¹⁰ See 19 CFR 351.309(c)(2) and (d)(2).

Pursuant to 19 CFR 351.310(c), interested parties who wish to request a hearing regarding issues raised in the case and rebuttal briefs, must submit a written request to the Assistant Secretary for Enforcement and Compliance, Requests for a hearing should contain: (1) the requesting party's name, address, and telephone number; (2) the number of individuals from the requesting party that will attend the hearing and whether any individuals are foreign nationals; and (3) a list of the issues the party intends to discuss at the hearing. Oral arguments at the hearing will be limited to issues raised in the case and rebuttal briefs. If a request for a hearing is made, Commerce will announce the date and time of the hearing. Parties should confirm the date and time of the hearing two days before the scheduled hearing date.

All submissions must be filed electronically via ACCESS. An electronically filed document must be received successfully in its entirety via ACCESS by 5:00 p.m. Eastern Time within 30 days after the date of publication of this notice.¹¹ Note that Commerce has temporarily modified certain of its requirements for serving documents containing business proprietary information, until further notice.¹²

¹¹ See 19 CFR 351.310(c).

¹² See Temporary Rule Modifying AD/CVD Service Requirements Due to COVID-19, 85 FR 17006 (March 26, 2020); and Temporary Rule Modifying AD/CVD Service Requirements Due to COVID-19; Extension of Effective Period, 85 FR 41363 (July 10, 2020).

Final Results of Review

Commerce intends to issue the final results of this administrative review, which will include the results of its analysis of issues raised in any briefs, within 120 days of publication of these preliminary results of review in the Federal Register, pursuant to section 751(a)(3)(A) of the Act, unless extended.

Assessment Rates

Upon completion of the administrative review, Commerce shall determine, and CBP shall assess, antidumping duties on all appropriate entries covered by this review.¹³

¹³ See 19 CFR 351.212(b).

For the company that was not selected for individual examination, we will instruct CBP to assess antidumping duties at an ad valorem rate equal to the weighted-average dumping margin determined in the final results of review.

For individually examined respondents whose weighted-average dumping margin is not zero or de minimis, we will calculate importer-specific assessment rates in accordance with 19 CFR 351.212(b)(1). Where the respondent reported reliable entered values, we intend to calculate importer-specific ad valorem assessment rates by dividing the total amount of dumping calculated for all reviewed U.S. sales to the importer by the total entered value of the merchandise sold to the importer.¹⁴ Where the respondent did not report entered values, we will calculate importer-specific assessment rates by dividing the total amount of dumping calculated for all reviewed U.S. sales to the importer by the total quantity of those sales. We also will calculate an estimated ad valorem importer-specific assessment rate to determine whether the per-unit assessment rate is de minimis; however, we will use the per-unit assessment rate where entered values were not reported.¹⁵

¹⁴ See 19 CFR 351.212(b)(1).

¹⁵ Id.

Where an importer-specific ad valorem assessment rate is not zero or de minimis, we will instruct CBP to collect the appropriate duties at the time of liquidation. Where either the respondent's ad valorem weighted-average dumping margin is zero or de minimis, or an importer-specific ad valorem assessment rate is zero or de minimis,¹⁶ we will instruct CBP to liquidate the appropriate entries without regard to antidumping duties.

¹⁶ See 19 CFR 351.106(c)(2).

Commerce's “automatic assessment” practice will apply to entries of subject merchandise during the POR produced or exported by the examined companies for which the examined companies did not know that the merchandise they sold was destined for the United States. In such instances, we will instruct CBP to liquidate unreviewed entries at the all-others rate if there is no rate for the intermediate company(ies) involved in the transaction.¹⁷

¹⁷ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

The final results of this review shall be the basis for the assessment of antidumping duties on entries of merchandise covered by the final results of this review and for future deposits of estimated duties, where applicable.¹⁸

¹⁸ See section 751(a)(2)(C) of the Act.

Cash Deposit Requirements

The following cash deposit requirements will be in effect for all shipments of subject merchandise entered, or withdrawn from warehouse, for consumption on or after the date of publication of the notice of the final results of this administrative review in the Federal Register, as provided for by section 751(a)(2)(C) of the Act: (1) the cash deposit rate for the exporters listed above will be equal to the weighted-average dumping margin established in the final results of this review, except if the rate is less than 0.50 percent, and, therefore, de minimis within the meaning of 19 CFR 351.106(c)(1), in which case the cash deposit rate will be zero; (2) for previously reviewed or investigated companies not participating in this review, the cash deposit rate will continue to be the company-specific rate published for the most recently-completed segment of this proceeding in which the company was reviewed; (3) if the exporter is not a firm covered in this review or a previous segment of this proceeding, but the producer is, then the cash deposit rate will be the rate established in the most recently completed segment for the producer of the subject merchandise; and (4) the cash deposit rate for all other producers or exporters will continue to be 49.40 percent, the all-others rate established in the less-than-fair-value investigation.¹⁹

¹⁹ See Common Alloy Aluminum Sheet from Germany: Final Determination of Sales at Less Than Fair Value, 86 FR 13318 (March 8, 2021).

These deposit requirements, when imposed, shall remain in effect until further notice.

Notification to Importers

This notice serves as a preliminary reminder to importers of their responsibility under 19 CFR 351.402(f) to file a certificate regarding the reimbursement of antidumping duties and/or countervailing duties prior to liquidation of the relevant entries during this review period. Failure to comply with this requirement could result in Commerce's presumption that reimbursement of antidumping duties and/or countervailing duties occurred and the subsequent assessment of double antidumping duties and/or antidumping duties increased by the amount of the countervailing duties.

Notification to Interested Parties

We are issuing and publishing these preliminary results of review in accordance with sections 751(a)(1) and 777(i)(l) of the Act, and 19 CFR 351.213 and 351.221(b)(4).

Dated: April 28, 2023.
Lisa W. Wang,
Assistant Secretary for Enforcement and Compliance.

Appendix

List of Sections in the Preliminary Decision Memorandum

I. Summary

II. Background

III. Scope of the Order

IV. Successor-in-Interest Analysis

V. Discussion of the Methodology

VI. Currency Conversion

VII. Recommendation

[FR Doc. 2023-09922 Filed 5-9-23; 8:45 am]

BILLING CODE 3510-DS-P